INTERNATIONAL TRADE COMMISSION

[Investigation No. 332-460]

Foundry Products: Competitive Conditions in the U.S. Market

AGENCY: International Trade Commission.

ACTION: Institution of investigation and scheduling of hearing.

EFFECTIVE DATE: June 8, 2004.

SUMMARY: Following receipt on May 4, 2004 of a request from the U.S. House Committee on Ways and Means under section 332(g) of the Tariff Act of 1930 (19 U.S.C. 1332(g)), the Commission instituted investigation No. 332-460, Foundry Products: Competitive Conditions in the U.S. Market.

FOR FURTHER INFORMATION CONTACT: (1) Project Leader, Judith-Anne Webster (202-205-3489 or judith-anne.webster@usitc.gov)

(2) Deputy Project Leader, Deborah McNay (202-205-3425 or deborah.mcnay@usitc.gov)

The above persons are in the Commission's Office of Industries. For information on legal aspects of the investigation, contact William Gearhart of the Commission's Office of the General Counsel at 202-205-3091 or william.gearhart@usitc.gov. Media should contact Peg O'Laughlin at 202-205-1819 or margaret.olaughlin@usitc.gov. General information concerning the Commission may also be obtained by accessing its Internet server (http://www.usitc.gov).

Background: As requested by the Committee, the Commission will investigate the current competitive conditions facing producers in the U.S. foundry industry in the U.S. market. The investigation will include an overview of the industry together with a detailed analysis of selected key iron-, steel-, aluminum-, and copper-based cast products which are representative of the major segments of the foundry industry. The Commission's report will provide information for the most recent five-year period, to the extent possible, regarding the following:

1. A profile of the U.S. foundry industry.

2. Trends in U.S. production, shipments, capacity, consumption, and trade in foundry products, as well as financial conditions of domestic producers.

3. A profile of major foreign industries including, but not necessarily limited to, Brazil and China.

4. A description of relevant U.S. and foreign government policies and regulations affecting U.S. and foreign producers as identified during the investigation by the producers and consumers of foundry products, including appropriate investment, tax, and export policies; environmental regulations; and worker health and safety regulations.

5. A comparison of various factors affecting competition between U.S. and foreign producers-such as the availability and cost of raw materials, energy, and labor; level of technology and changes in the manufacturing process; pricing practices; transportation costs; technical advice and service; and an analysis of how these factors affect the industry.

6. An analysis of the purchasing patterns and practices of downstream industries. As requested by the Committee, the Commission will provide its report not later than May 4, 2005.

Public Hearing: A public hearing in connection with this investigation is scheduled to begin at 9:30 a.m. on October 14, 2004, at the U.S. International Trade Commission Building, 500 E Street, SW, Washington, DC. Requests to appear at the public hearing should be filed with the Secretary, no later than 5:15 p.m., September 24, 2004, in accordance with the requirements in the “Submissions” section below. In the event that, as of the close of business on September 24, 2004, no witnesses are scheduled to appear, the hearing will be canceled. Any person interested in attending the hearing as an observer or non-participant may call the Secretary (202-205-2000) after September 24, 2004, to determine whether the hearing will be held.

Statements and Briefs: In lieu of or in addition to participating in the hearing, interested parties are invited to submit written statements or briefs concerning this investigation in accordance with the requirements in the “Submissions” section below. Any prehearing briefs or statements should be filed not later than 5:15 p.m., September 30, 2004; the deadline for filing post-hearing briefs or statements is 5:15 p.m., October 22, 2004.

Submissions: All written submissions including requests to appear at the hearing, statements, and briefs should be addressed to the Secretary, United States International Trade Commission, 500 E Street, SW, Washington, DC 20436. All written submissions must conform with the provisions of section 201.8 of the Commission's Rules of Practice and Procedure (19 CFR 201.8); any submission that contains confidential business information must also conform with the requirements of section 201.6 of the Commission's Rules of Practice and Procedure (19 CFR 201.6). Section 201.8 of the rules require that a signed original (or a copy designated as an original) and fourteen (14) copies of each document be filed. In the event that confidential treatment of the document is requested, at least four (4) additional copies must be filed, in which the confidential information must be deleted. Section 201.6 of the rules requires that the cover of the document and the individual pages be clearly marked as to whether they are the “confidential” or “nonconfidential” version, and that the confidential business information be clearly identified by means of brackets. All written submissions, except for confidential business information, will be made available for inspection by interested parties.

In their hearing testimony and written submissions, interested parties should provide information regarding the six topics in the “Background” section of this notice and any other relevant information relating to competitive conditions in the U.S. foundry market.

The Commission's rules do not authorize filing submissions with the Secretary by facsimile or electronic means, except to the extent permitted by section 201.8 of the Commission's Rules of Practice and Procedure (19 CFR 201.8) (see Handbook for Electronic Filing Procedures, ftp://ftp.usitc.gov/pub/reports/electronic_filing_handbook.pdf). Persons with questions regarding electronic filing should contact the Secretary (202-205-2000 or edis@usitc.gov).

The public record for these investigations may be viewed on the Commission's electronic docket (EDIS) at http://edis.usitc.gov. Hearing-impaired individuals are advised that information on this matter can be obtained by contacting our TDD terminal on (202) 205-1810. Persons with mobility impairments who will need special assistance in gaining access to the Commission should contact the Secretary at 202-205-2000.

List of Subjects

Foundry, metal castings, and competition.

By order of the Commission.
Issued: June 8, 2004.
Marilyn R. Abbott,
Secretary to the Commission.

[FR Doc. 04-13358 Filed 6-14-04; 8:45 am]

BILLING CODE 7020-02-P